ENVIRONMENTAL PROTECTION AGENCY

[EPA-HQ-OPPT-2003-0004; FRL-9986-69]

Access to Confidential Business Information by Abt Associates Inc.

AGENCY: Environmental Protection Agency (EPA).

ACTION: Notice.

SUMMARY: EPA has authorized its contractor, Abt Associates Inc. (Abt) of Rockville, MD, to access information which has been submitted to EPA under all sections of the Toxic Substances Control Act (TSCA). Some of the information may be claimed or determined to be Confidential Business Information (CBI).

DATES: Access to the confidential data will occur no sooner than March 5, 2019.

FOR FURTHER INFORMATION CONTACT:

For technical information contact: Recie Reese, Environmental Assistance Division (7408M), Office of Pollution Prevention and Toxics, Environmental Protection Agency, 1200 Pennsylvania Ave. NW, Washington, DC 20460-0001; telephone number: (202) 564-8276; email address: reese.recie@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the Agency taking?

Under EPA contract number GS-00F-252CA, order number EP-G18H-01464, contractor Abt of 4550 Montgomery Avenue, Suite 800 North, Bethesda, MD and 55 Wheeler Street, Cambridge, MA will assist the Office of Pollution Prevention and Toxics (OPPT) by providing support to the methodological development of a uniform data output and analytics of TRI/TSCA data information; developing chemical profiles that focus on TSCA workplan chemicals, or on sets of chemicals based on commercial or industrial use; provide support for the updates to the EasyRSEI the internal EPA and public Qlik applications; create any new applications, as directed, including but not limited to a RSEI-related pollution prevention Qlik App and expanded TSCA Qlik application; and explore feasibility of integrating novel data streams in support of TRI and TSCA-related efforts.

In accordance with 40 CFR 2.306(j), EPA has determined that under EPA contract number GS-00F-252CA, order number EP-G18H-01464, Abt will require access to CBI submitted to EPA under all sections of TSCA to perform successfully the duties specified under the contract. Abt contractors will be given access to information submitted to EPA under all sections. Some of the information may be claimed or determined to be CBI.

EPA is issuing this notice to inform all submitters of information under all sections of TSCA that EPA may provide Abt access to these CBI materials on a need-to-know basis only. All access to TSCA CBI under this contract will take place at EPA Headquarters and Abt's sites located in Bethesda, MD and Cambridge, MA in accordance with EPA's TSCA CBI Protection Manual.

Access to TSCA data, including CBI, will continue until December 28, 2022. If the contract is extended, this access will also continue for the duration of the extended contract without further notice.

Abt's contractor personnel will be required to sign nondisclosure agreements and will be briefed on appropriate security procedures before they are permitted access to TSCA CBI.

Authority: 15 U.S.C. 2601 et seq.

Dated: December 12, 2018.
Pamela Myrick,
Director, Information Management Division, Office of Pollution Prevention and Toxics.

[FR Doc. 2019-03293 Filed 2-25-19; 8:45 am]

BILLING CODE 6560-50-P